COMMODITY FUTURES TRADING COMMISSION

Sunshine Act Meetings

TIME AND DATE: 10:00 a.m. EDT, Thursday, May 28, 2020.

PLACE: Conference call.

STATUS: Open.

MATTERS TO BE CONSIDERED: The Commodity Futures Trading Commission (“Commission” or “CFTC”) will hold this meeting to consider the following matters:

• Proposed Rule: Amendments to Regulation 3.10(c)(3)—Providing an Exemption from Registration for Foreign Persons Acting as Commodity Pool Operators on Behalf of Offshore Commodity Pools; and

• Interim Final Rule: Amendments to Regulation 23.161—Extending the Compliance Schedule for Initial Margin Requirements for Uncleared Swaps in Response to the COVID-19 Pandemic.

The agenda for this meeting will be available to the public and posted on the Commission's website at https://www.cftc.gov. Instructions for public access to the live audio feed of the meeting will also be posted on the Commission's website. In the event that the time, date, or place of this meeting changes, an announcement of the change, along with the new time, date, or place of the meeting, will be posted on the Commission's website.

CONTACT PERSON FOR MORE INFORMATION: Christopher Kirkpatrick, Secretary of the Commission, 202-418-5964.

Authority: 5 U.S.C. 552b.

Dated: May 21, 2020.
Christopher Kirkpatrick,
Secretary of the Commission.

[FR Doc. 2020-11409 Filed 5-22-20; 11:15 am]

BILLING CODE 6351-01-P